MORRIS K. UDALL AND STEWART L. UDALL FOUNDATION

Sunshine Act Meetings

TIME AND DATE: 1 p.m. to 3 p.m., Thursday, October 27, 2011.

PLACE: The offices of the Morris K. Udall and Stewart L. Udall Foundation, 130 South Scott Avenue, Tucson, AZ 85701.

STATUS: This meeting will be open to the public, unless it is necessary for the Board to consider items in executive session.

MATTERS TO BE CONSIDERED: (1) Program reports; (2) report from the Management Committee; (3) report from the Udall Center for Studies in Public Policy; (4) report on the Native Nations Institute; and (5) other business as needed.

PORTIONS OPEN TO THE PUBLIC: All sessions with the exception of the session listed below.

PORTIONS CLOSED TO THE PUBLIC: Executive session.

FOR FURTHER INFORMATION CONTACT: Ellen K. Wheeler, Executive Director, 130 South Scott Avenue, Tucson, AZ 85701, (520) 901-8500.

Dated: October 3, 2011.
Ellen K. Wheeler,
Executive Director, Morris K. Udall and Stewart L. Udall Foundation, and Federal Register Liaison Officer.

[FR Doc. 2011-26098 Filed 10-11-11; 8:45 am]

BILLING CODE 6820-FN-M